DEPARTMENT OF THE TREASURY

Community Development Financial Institutions Fund

Notice of Funds Availability Inviting Applications for the Community Development Financial Institutions Program—Financial Assistance Component: Change of Application Deadline

AGENCY: Community Development Financial Institutions Fund, Department of the Treasury.

ACTION: Change of application deadline.

SUMMARY: On February 4, 2003, the Community Development Financial Institutions Fund (the “Fund”) announced in a NOFA for the Financial Assistance Component of the CDFI Program (68 FR 5738) that the deadline for applications for assistance through the Financial Assistance Component was March 10, 2003. This notice is to announce that the application deadline for the FY 2003 funding round of the Financial Assistance Component of the CDFI Program has been extended to March 17, 2003. All other information and requirements set forth in the February 4, 2003, NOFA for the Financial Assistance Component shall remain effective, as published.

FOR FURTHER INFORMATION CONTACT: If you have any questions about the programmatic requirements for this program, contact the Fund's Program Operations Manager. If you have questions regarding administrative requirements, contact the Fund's Awards Manager. The Program Operations Manager and the Awards Manager may be reached by e-mail at cdfihelp@cdfi.treas.gov, by telephone at (202) 622-6355, by facsimile at (202) 622-7754, or by mail at CDFI Fund, 601 13th Street, NW., Suite 200 South, Washington, DC 20005. These are not toll free numbers.

Authority: 12 U.S.C. 4703; chapter X, Pub. L. 104-19, 109 Stat. 237.

Dated: February 4, 2003.
Tony T. Brown,
Director, Community Development Financial Institutions Fund.

[FR Doc. 03-3108 Filed 2-6-03; 8:45 am]

BILLING CODE 4810-70-P